DEPARTMENT OF THE INTERIOR

National Park Service

[NPS-WASO-NAGPRA-NPS0038520; PPWOCRADN0-PCU00RP14.R50000]

Notice of Intended Disposition: U.S. Department of the Interior, Bureau of Land Management, Colorado State Office, Canyons of the Ancients National Monument, Dolores CO

AGENCY: Bureau of Land Management, Interior.

ACTION: Notice.

SUMMARY: In accordance with the Native American Graves Protection and Repatriation Act (NAGPRA), the U.S. Department of the Interior, Bureau of Land Management, Canyons of the Ancients National Monument intends to carry out the disposition of human remains removed from Federal or Tribal lands to the lineal descendants, Indian Tribe, or Native Hawaiian organization with priority for disposition in this notice.

DATES: Disposition of the human remains in this notice may occur on or after September 20, 2024. If no claim for disposition is received by August 21, 2025, the human remains in this notice will become unclaimed human remains.

ADDRESSES: Raymond O'Neil, Monument Manager, Canyons of the Ancients National Monument, 27501 Highway 184, Dolores, CO 81323, telephone (970) 882-5616, email roneil@blm.gov.

SUPPLEMENTARY INFORMATION: This notice is published as part of the National Park Service's administrative responsibilities under NAGPRA. The determinations in this notice are the sole responsibility of the Bureau of Land Management and additional information on the human remains in this notice, including the results of consultation, can be found in the related records. The National Park Service is not responsible for the identifications in this notice.

Abstract of Information Available

Based on the information available, human remains representing, at least, one individual have been reasonably identified. The human remains consist of a single human cranium, including the detached lower mandible. Distinct occipital flattening, often referred to as “cradle boarding,” is commonly found in prehistoric Puebloan remains throughout the Four Corners region of the American Southwest, indicating the likelihood that the individual is an ancestor to modern Puebloan tribal members who lived between 1050 and 1295 BCE.

No other skeletal material was located or collected. No Native American cultural objects were found in association with the isolated cranium. The absence of additional material prevents further determination of cultural affiliation but does indicate that the location was not the site of an intentional prehistoric burial. No known individuals were identified.

Determinations

The Bureau of Land Management has determined that:

• The human remains described in this notice represent the physical remains of one individual of Native American ancestry.

• The Pueblo of Acoma, New Mexico has priority for disposition of the human remains described in this notice.

Claims for Disposition

Written claims for disposition of the human remains in this notice must be sent to the appropriate official identified in this notice under ADDRESSES. If no claim for disposition is received by August 21, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after September 20, 2024. If competing claims for disposition are received, the Bureau of Land Management must determine the most appropriate claimant prior to disposition. Requests for joint disposition of the human remains are considered a single request and not competing requests. The Bureau of Land Management is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: August 7, 2024.
Melanie O'Brien,
Manager, National NAGPRA Program.

[FR Doc. 2024-18675 Filed 8-20-24; 8:45 am]

BILLING CODE 4312-52-P